DEPARTMENT OF THE TREASURY

Submission for OMB Review; Comment Request

June 21, 2001.

The Department of Treasury has submitted the following public information collection requirement(s) to OMB for review and clearance under the Paperwork Reduction Act of 1995, Public Law 104-13. Copies of the submission(s) may be obtained by calling the Treasury Bureau Clearance Officer listed. Comments regarding this information collection should be addressed to the OMB reviewer listed and to the Treasury Department Clearance Officer, Department of the Treasury, Room 2110, 1425 New York Avenue, NW., Washington, DC 20220.

DATES: Written comments should be received on or before July 30, 2001 to be assured of consideration.

Bureau of Alcohol, Tobacco and Firearms (BATF)

OMB Number: 1512-0007.

Form Number: ATF Form 3310.6.

Type of Review: Extension.

Title: Interstate Firearms Shipment Report of Theft/Loss.

Description: This form is part of a voluntary program in which the common carrier and/or shipper report losses or thefts of firearms from interstate shipments. National Crime Information Center, to initiate investigations, and to perfect criminal cases.

Respondents: Business or other for-profit.

Estimated Number of Respondents: 1,014.

Estimated Burden Hours Per Respondent: 20 minutes.

Frequency of Response: On occasion.

Estimated Total Reporting Burden: 338 hours.

OMB Number: 1512-0033.

Form Number: ATF F 1534-A (5000.19).

Type of Review: Extension.

Title: Tax Authorization Information.

Description: Information disclosure, proprietary data, tax information confidentiality ATF F 1534-A (5000.19) is required by ATF to be filed when a respondent's representative, not having a power of attorney, wishes to obtain confidential information regarding the respondent. After proper completion of the form, information can be released to the representative.

Respondents: Business or other for-profit.

Estimated Number of Respondents: 50.

Estimated Burden Hours Per Respondent: 1 hour.

Frequency of Response: On occasion.

Estimated Total Reporting Burden: 50 hours.

OMB Number: 1512-0035.

Form Number: ATF F 5000.21.

Type of Review: Extension.

Title: Referral of Information.

Description: Information services organizations by Federal, State or local governments. ATF asks the Federal agency or State or local regulatory compliance agency to respond as to any action that will be taken and if so the action planned on referrals of potential violations of Federal, State or local law discovered by ATF personnel during investigations. It is also used to evaluate effectiveness of these referrals.

Respondents: Federal Government, State, Local or Tribal Government.

Estimated Number of Respondents: 500.

Estimated Burden Hours Per Respondent: 1 hour.

Frequency of Response: Other (as necessary).

Estimated Total Reporting Burden: 500 hours.

OMB Number: 1512-0043.

Form Number: ATF F 8 (5310.11) Part II.

Type of Review: Extension.

Title: Application for Renewal of Federal Firearms License.

Description: This form is filed by the licensee desiring to renew a Federal firearms license. It is used to identify the applicant, locate the business/collection premises, identify the type of business/collection activity, and determine the eligibility of the applicant.

Respondents: Business or other for-profit, Individuals or households.

Estimated Number of Respondents: 35,000.

Estimated Burden Hours Per Respondent: 25 minutes.

Frequency of Response: Other (once every 3 years).

Estimated Total Reporting Burden: 14,750 hours.

OMB Number: 1512-0182.

Form Number: ATF F 5400.13/5400.16.

Type of Review: Extension.

Title: Application for License or Permit Under 18. U.S.C., Chapter 40, Explosives.

Description: Emphasis is placed on qualifying applicants and identifying proper storage facilities. This form allows application for an explosives license or permit, which, if approved, permits the holder to engage in manufacturing, importing, dealing, or using explosive materials under the Organized Crime Control Act of 1970.

Respondents: Business or other for-profit, Individuals or households, Not-for-profit institutions, State, Local or Tribal Government.

Estimated Number of Respondents: 2,100.

Estimated Burden Hours Per Respondent: 1 hour and 9 minutes.

Frequency of Response: On occasion.

Estimated Total Reporting Burden: 812 hours.

OMB Number: 1512-0221.

Form Number: ATF 5640.1.

Type of Review: Extension.

Title: OFFER IN COMPROMISE of Liability Incurred Under the Provisions of Title 26 U.S.C. Enforced and Administered by the Bureau of Alcohol, Tobacco and Firearms.

Description: ATF F 5640.1 is used by persons who wish to compromise criminal and/or civil penalties for violations of the Internal Revenue Code. If accepted, the offer in compromise is a settlement between the government and the party in violation in lieu of legal proceedings or prosecution. The form identifies the party making the offer, violations, amount of offer and circumstances concerning the violations.

Respondents: Business or other for-profit.

Estimated Number of Respondents: 40.

Estimated Burden Hours Per Respondent: 2 hours.

Frequency of Response: Other (as necessary).

Estimated Total Reporting Burden: 80 hours.

OMB Number: 1512-0242.

Form Number: ATF F 5400.6.

Type of Review: Extension.

Title: User-Limited (Explosives).

Description: The user-limited permit is useful to the person making a one-time purchase from out-of-state. It is used one time only and is nonrenewable. The explosives distributor makes entries on the form and returns the form to the permittee to prevent reuse of the #2 permit.

Respondents: Business or other for-profit.

Estimated Number of Respondents: 1,092.

Estimated Burden Hours Per Respondent: 12 minutes.

Frequency of Response: Other (5 years).

Estimated Total Reporting Burden: 22 hours.

OMB Number: 1512-0371.

Recordkeeping Requirement ID Number: ATF REC 5400/1.

Type of Review: Extension.

Title: Inventories, Licensed Explosives Importers, Manufacturers, Dealers, and Permittees.

Description: These records show the explosive material inventories of those persons engaged in various activities within the explosives industry and are used by the government as initial figures from which an audit trail can be developed during the course of a compliance inspection or criminal investigation.

Respondents: Business or other for-profit.

Estimated Number of Recordkeepers: 13,106.

Estimated Burden Hours Per Recordkeeper: 2 hours.

Frequency of Response: On occasion.

Estimated Total Recordkeeping Burden: 26,212 hours.

OMB Number: 1512-0509.

Form Number: ATF F 5300.27.

Type of Review: Extension.

Title: Federal Firearms and Ammunition Excise Tax Deposit.

Description: Business and individuals who manufacture or import firearms, shells and cartridges may be required to deposit Federal excise tax. ATF uses this information to identify the taxpayer and the deposit.

Respondents: Business or other for-profit, Individuals or households.

Estimated Number of Respondents: 283.

Estimated Burden Hours Per Respondent: 9 minutes.

Frequency of Response: On occasion, Monthly, Other.

Estimated Total Reporting Burden: 770 hours.

Clearance Officer: Frank Bowers, (202) 927-8930, Bureau of Alcohol, Tobacco and Firearms, Room 3200, 650 Massachusetts Avenue, NW., Washington, DC 20226.

OMB Reviewer: Alexander T. Hunt, (202) 395-7860, Office of Management and Budget, Room 10202, New Executive Office Building, Washington, DC 20503.

Lois K. Holland,
Departmental Reports, Management Officer.

[FR Doc. 01-16207 Filed 6-27-01; 8:45 am]

BILLING CODE 4810-31-P